DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed new information collection. In accordance with the Paperwork Reduction Act of 1995, this notice seeks comments concerning acquisition and relocation of properties for open space.

SUPPLEMENTARY INFORMATION: FEMA submitted an interim final rule for the Property Acquisition and Relocation for Open Space (proposed 44 CFR Part 80) that will govern property acquisitions for the creation of open space under all of FEMA mitigation grant programs authorized under both the Robert T. Stafford Disaster Relief and Emergency Assistance Act as amended, and the National Flood Insurance Act of 1968 (42 U.S.C. 4001, et seq.), as amended. Acquisition and relocation of property for open space use is one of the most common mitigation activities, and is an eligible activity type authorized for Federal grant funds under all of FEMA mitigation grant programs. This collection of information is necessary to establish uniform requirements for State and local implementation of acquisition activities, and to enforce open space maintenance and monitoring requirements for properties acquired with FEMA mitigation grant funds.

This new collection of information is being submitted with an interim final rule for the Flood Mitigation Assistance (FMA) and Severe Repetitive Loss (SRL) programs (proposed 44 CFR Part 79), and conforming amendment to the Mitigation Planning requirements (44 CFR Part 201) to include program requirements under the Bunning-Bereuter-Blumenauer Flood Insurance Reform Act of 2004, Public Law 108-264. This Act includes specific requirements for the SRL program on how property values, and consequently the amount offered to a property owner for acquisition, are to be determined. Since all of FEMA mitigation grant programs allow property acquisition activities, FEMA has determined that it is in the best interest of property owners, State and local grant recipients, and FEMA grant managers to establish a uniform set of regulations for acquisition activities that can apply to all FEMA mitigation grant programs. This collection serves as an extension of information specifically for acquisition and relocation activities conducted under FEMA Mitigation grant programs.

Collection of Information

Title: Property Acquisition and Relocation for Open Space.

Type of Information Collection: New Collection.

OMB Number: 1660-New23.

Form Numbers: None.

Abstract: FEMA and State and local recipients of FEMA mitigation grant programs will use the information collected under the Property Acquisition requirements to implement acquisition activities under the terms of grant agreements for acquisition and relocation activities. FEMA and State/local grant recipients will also use the information to monitor and enforce the open space requirements for all properties acquired with FEMA mitigation grants.

Affected Public: State, local, or tribal government and individuals or households.

Estimated Time per Respondent:

Annual Burden Hours
Project/activity (survey, form(s), focus group, etc.) | Number of respondents | Frequency of responses | Burden hours per respondent | Annual responses | Total annual burden hours
| (A) | (B) | (C) | (A×B) | (C×B)
Property Owners Voluntary Participation Statements | 2200 | 1 | 1 | 2200 | 2200
Local Officials Review and Submit Voluntary Participation Statements | 500 | 4.4 | 1 | 2200 | 2200
Local Officials Record Deed Restrictions | 500 | 4.4 | 3 | 2200 | 6600
States Review and Submit Deed Restrictions | 56 | 39.28 | 4.0 | 2200 | 8800
Local Officials Monitoring and Reporting Requirements | 500 | 4.4 | 0.25 | 2200 | 550
State Officials Reporting Requirements | 56 | 1 | 4.0 | 56 | 224
Transfer Certification | ** | ** | ** | ** | **
Enforcement Notices | *** | ** | ** | ** | **
Total | 56 |  | 13.25 | 2,200 | 20,574

Estimated Cost: The total annual estimated costs to States Officials, Local Officials and individuals/households (Property Owners) using wage rate categories, for information collection associated with the Property Acquisition requirements is $1,018,437.52. Response to this information collection will require no additional investment on the part of participants other than the normal and routine business/operational expenses.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 6, 2006.

ADDRESSES: Interested persons should submit written comments to Chief, Records Management and Privacy, Information Resources Management Branch, Information Technology Services Division, Federal Emergency Management Agency, 500 C Street, SW., Room 316, Washington, DC 20472.

FOR FURTHER INFORMATION CONTACT: Contact Kathleen Wissmann, Program Specialist, Mitigation Division, (202) 646-4372 for additional information. You may contact the Records Management Branch for copies of the proposed collection of information at facsimile number (202) 646-3347 or e-mail address: FEMA-Information-Collections@dhs.gov.

Dated: September 1, 2006.
John A. Sharetts-Sullivan,
Chief, Records Management and Privacy Information Resources Management Branch, Information Technology Services Division.

[FR Doc. E6-14820 Filed 9-6-06; 8:45 am]

BILLING CODE 9110-41-P